DEPARTMENT OF THE INTERIOR

Bureau of Reclamation

Information Collection Activities; Request for Comments

AGENCY: Bureau of Reclamation, Interior.

ACTION: Notice and request for comments.

SUMMARY: The Bureau of Reclamation (Reclamation), as part of its continuing effort to reduce paperwork and respondent burdens, invites other Federal agencies, State, local, or tribal governments which manage recreation sites at Reclamation projects; concessionaires, subconcessionaires, and not-for-profit organizations who operate concessions on Reclamation lands; and the public, to comment on continuing information collection as required under the Paperwork Reduction Act of 1995 (44 U.S.C. Chapter 35). Currently, comments are being solicited about information Reclamation obtains to assess the relevance of recreation and concession activities at Reclamation projects.

DATES: Written comments must be received by the office listed in the addresses section on or before February 25, 2003.

ADDRESSES: Direct comments on the collection of recreation and concession information to: Bureau of Reclamation, Land, Recreation, and Cultural Resources Office, D-5300, Attention: Mr. Vernon Lovejoy, PO Box 25007, Denver, Colorado 80225-0007.

FOR FURTHER INFORMATION CONTACT: For additional information or a copy of the proposed Recreation Data Use Report forms, contact Mr. Lovejoy at the address provided above or by telephone at (303) 445-2913.

SUPPLEMENTARY INFORMATION: Reclamation collects Reclamation-wide recreation and concession information in support of existing public laws including the Federal Water Project Recreation Act (Pub. L. 89-72) and the Land and Water Conservation Fund Act (Pub. L. 88-578) and to fulfill reports to the President and the Congress. This collection of information allows Reclamation to meet the requirements of the Government Performance and Results Act (GPRA), financial reporting requirements, and pursue Reclamation's mission to manage, develop, and protect water and related resources in an environmentally and economically sound manner in the interest of the American people. Collection of Reclamation-wide recreation and concessionaire information supports specific information required by the Land and Water Conservation Fund Act and the Department of the Interior's GPRA-based strategic plan.

The two-part Recreation Use Data Report is an extension of a currently approved information collection with changes. Collected information will be used by Reclamation and its region and area offices to fulfill annual assessments and reporting requirements. Collected information will permit relevant program assessments of resources managed by Reclamation, its recreation managing partners, and/or concessionaires for the purpose of protecting the public interest and the resources managed by Reclamation. In addition, the collection of information will fulfill congressional and financial reporting requirements.

Collection of Information

Title: Recreation Use Data Report.

Form No. 7-2534—Part 1, Managing Partners.

Form No. 7-2535—Part 2, Concessionaires.

OMB No.: OMB No. 1006-0002.

Type of Review: Recreation Use Data Report—extension of a currently approved information collection with change.

Abstract: Collect Reclamation-wide recreation and concession information in support of existing public laws, reporting requirements, and Reclamation's mission. The information will further Reclamation's ability to evaluate program and management effectiveness of existing recreation and concessionaire resources and facilities and validate effective public use of managed recreation resources, located on Reclamation project lands in the 17 Western States. Information collection primarily affects other Federal agencies, State, local or tribal governments or agencies who manage Reclamation's recreation resources and facilities; and for commercial concessions and nonprofit organizations located on reclamation lands with associated recreation services. A portion of the information collected may include individual or group users of these managed recreation resources or concessionaires.

Description of respondents: The information collection primarily affects other Federal agencies, State, local, or tribal governments, or agencies who manage Reclamation's recreation resources and facilities; and commercial concessions, subconcessionaires, and nonprofit organizations located on Reclamation lands with associated recreation services.

Frequency: Annually.

Form No. 7-2534, Managing Partners

Estimated completion time: 2 hours.

Annual responses: 310.

Annual burden hours: 620.

Form No. 7-2535, Concessionaires

Estimated completion time: 2 hours.

Annual responses: 225.

Annual burden hours: 450.

Comments are invited on: (a) Whether the proposed collection of information is necessary for the proper performance of the functions of Reclamation, including whether the information shall have practical use; (b) the accuracy of Reclamation's estimated burden of the proposed collection of information; (c) ways to enhance the quality, use, and clarity of the information to be collected; and (d) ways to minimize the burden of the collection of information on those who are to respond, including through the use of automated collection techniques or other forms of information technology.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: December 12, 2002.
Elizabeth Cordova-Harrison,
Deputy Director, Office of Policy.

[FR Doc. 02-32686 Filed 12-26-02; 8:45 am]

BILLING CODE 4310-MN-P